DEPARTMENT OF ENERGY

Federal Energy Regulatory Commission

[Docket No. RP01-249-001]

Trunkline Gas Company; Notice of Compliance Filing

April 23, 2001.

Take notice that on April 17, 2001, Trunkline Gas Company (Trunkline) tendered for filing additional workpapers to support its Fuel Reimbursement Filing. Trunkline asserts that the purpose of this filing is to comply with the Commission's order issued March 28, 2001 in Docket No. RP01-249-000, 94 FERC ¶ 61,348 (2001).

Trunkline further states that copies of this filing are being served on all parties to this proceeding and applicable state regulatory agencies.

Any person desiring to protest said filing should file a protest with the Federal Energy Regulatory Commission, 888 First Street, NE., Washington, DC 20426, in accordance with section 385.211 of the Commission's Rules and Regulations. All such protests must be filed on or before April 30, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-10474 Filed 4-26-01; 8:45 am]

BILLING CODE 6717-01-M